DEPARTMENT OF DEFENSE

Office of the Secretary

[Docket ID: DOD-2013-OS-0059]

Proposed Collection; Comment Request

AGENCY: Office of the Under Secretary of Defense for Acquisition, Technology and Logistics, DoD.

ACTION: Notice.

SUMMARY: In compliance with the Paperwork Reduction Act of 1995, the Office of the Under Secretary of Defense for Acquisition, Technology and Logistics announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 15, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Deputy Assistant Secretary of Defense (Program Support), ATTN: Donna Livingston, 3500 Defense Pentagon, Room 3C152, Washington, DC 30301-3500, or call at 703 692-3032.

SUPPLEMENTARY INFORMATION: Title; Associated Form; and OMB Number: Qualification to Possess Firearms or Ammunition; OMB Control Number 0704-0461.

Needs and Uses: The information collection requirement is necessary to obtain written acknowledgement by the contract company and its individual Private Security Contractor (PSC) personnel, after investigation of background of PSC personnel by the contractor, verifying that such personnel are not prohibited under U.S. law (18 U.S.C. 922) to possess firearms or ammunition.

Affected Public: Business or other for profit.

Annual Burden Hours: 2,344.

Number of Respondents: 125.

Responses per Respondent: 75.

Annual Responses: 9,375.

Average Burden per Response: 15 minutes.

Frequency: On occasion.

Respondents are contract companies and their respective individual Private Security Contractor personnel who must verify that they are not prohibited under U.S. law from possessing firearms. A signed statement is included as part of the arming authorization packet. If the validation is not included in the arming authorization package, individuals reviewing the package and approving the arming authorization cannot be readily assured of the qualifications of the individual requesting arming authorization. Establishing that contractors providing armed security are qualified is essential to insure capable force protection is provided to meet national security imperatives.

Dated: June 8, 2016.
Aaron Siegel,
Alternate OSD Federal Register Liaison Officer, Department of Defense.

[FR Doc. 2016-13970 Filed 6-13-16; 8:45 am]

BILLING CODE 5001-06-P